SOCIAL SECURITY ADMINISTRATION

Agreement on Social Security Between the United States and Japan; Entry Into Force

AGENCY: Social Security Administration (SSA).

ACTION: Notice.

SUMMARY: The Commissioner of Social Security gives notice that an agreement coordinating the United States (U.S.) and Japanese social security programs entered into force on October 1, 2005. The agreement with Japan, which was signed on February 19, 2004, is similar to U.S. social security agreements already in force with 20 other countries—Australia, Austria, Belgium, Canada, Chile, Finland, France, Germany, Greece, Ireland, Italy, Korea (South), Luxembourg, the Netherlands, Norway, Portugal, Spain, Sweden, Switzerland, and the United Kingdom. Agreements of this type are authorized by section 233 of the Social Security Act (42 U.S.C. 433).

Like the other agreements, the U.S.-Japanese agreement eliminates dual social security coverage—the situation that exists when a worker from one country works in the other country and is covered under the social security systems of both countries for the same work. When dual coverage occurs, the worker or the worker's employer or both may be required to pay social security contributions to the two countries simultaneously. Under the U.S.-Japanese agreement, a worker who is sent by an employer in one country to work in the other country for 5 years or less remains covered only by the sending country. The agreement includes additional rules that eliminate dual U.S. and Japanese coverage in other work situations.

The agreement also helps eliminate situations where workers suffer a loss of benefit rights because they have divided their careers between the two countries. Under the agreement, workers may qualify for partial U.S. benefits or partial Japanese benefits based on combined (totalized) work credits from both countries.

Individuals who wish to obtain copies of the agreement or want more information about its provisions may write to the Social Security Administration, Office of International Programs, Post Office Box 17741, Baltimore, MD 21235-7741 or visit the Social Security Web site at http://www.socialsecurity.gov/international.

Dated: January 13, 2006.
Jo Anne B. Barnhart,
Commissioner of Social Security.

[FR Doc. E6-758 Filed 1-23-06; 8:45 am]

BILLING CODE 4191-02-P